NATIONAL FOUNDATION ON THE ARTS AND THE HUMANITIES

National Endowment for the Arts; President's Committee on the Arts and the Humanities: Meeting #58

Pursuant to Section 10(a)(2) of the Federal Advisory Committee Act (Pub. L. 92-463), as amended, notice is hereby given that a meeting of the President's Committee on the Arts and the Humanities (PCAH) will be held on Thursday, November 10, 2005 from 9 a.m. to 5 p.m. (ending time is tentative). The meeting will be held at The Madison Hotel, the Mount Vernon Room—Salon B, 1177 15th Street, NW., Washington, DC 20005. Please be advised that, due to scheduling considerations, the starting time of the meeting may be delayed. Individuals interested in attending are encouraged to contact the President's Committee to confirm the starting time.

The Committee meeting will begin with a welcome, introductions, and announcements. Updates on Committee programs and activities will follow, including the recent U.S. Summit on Cultural and Heritage Tourism and youth arts and humanities projects. In addition, reports are anticipated on the condition of past Coming Up Taller awardees in the Gulf Region and a summary from Mr. Lawrence Reger, Executive Director, Heritage Preservation, on preservation/conservation efforts in this region. In addition to hearing remarks from the National Endowment for the Arts, the National Endowment for the Humanities, and the Institute of Museum and Library Services, the President's Committee will continue discussion of its actions in international cultural relations. The meeting will adjourn after discussion of other business, as necessary, and closing remarks.

The President's Committee on the Arts and the Humanities was created by Executive Order in 1982, which currently states that the “Committee shall advise, provide recommendations to, and assist the President, the National Endowment for the Arts, the National Endowment for the Humanities, and the Institute of Museum and Library Services on matters relating to the arts and the humanities.”

Any interested persons may attend as observers, on a space available basis, but seating is limited. Therefore, for this meeting, individuals wishing to attend are advised to contact Jenny Schmidt of the President's Committee seven (7) days in advance of the meeting at (202) 682-5560 or write to the Committee at 1100 Pennsylvania Avenue, NW., Suite 526, Washington, DC 20506. Further information with reference to this meeting can also be obtained from Ms. Schmidt.

If you need special accommodations due to a disability, please contact Ms. Schmidt through the Office of AccessAbility, National Endowment for the Arts, 1100 Pennsylvania Avenue, NW., Suite 724, Washington, DC 20506, (202) 682-5532, TDY-TDD (202) 682-5560, at least seven (7) days prior to the meeting.

Dated: October 18, 2005.
Kathy Plowitz-Worden,
Panel Coordinator, Panel Operations, National Endowment for the Arts.

[FR Doc. 05-21161 Filed 10-21-05; 8:45 am]

BILLING CODE 7537-01-P